DEPARTMENT OF HEALTH AND HUMAN SERVICES

National Institutes of Health

Proposed Data Collection; Comment Request; Clinical, Laboratory, and Epidemiologic Characterization of Individuals at High Risk of Cancer

SUMMARY: In compliance with the requirement of Section 3506(c)(2)(A) of the Paperwork Reduction Act of 1995, for opportunity for public comment on proposed extension of existing data collection projects, the National Cancer Institute (NCI), the National Institutes of Health (NIH) will publish periodic summaries of proposed projects to be submitted to the Office of Management and Budget (OMB) for review and approval.

Proposed Collection

Title: Clinical, Laboratory, and Epidemiologic Characterization of Individuals at High Risk of Cancer.

Type of Information Collection Request: Extension of OMB No. 0925-0194 (Expiration date 06/30/00).

Need and Use of Information Collection: This ongoing research study will identify cancer-prone persons in order to learn about cancer risk and cancer causes in individuals and families. The primary objectives of this research study are to utilize clinical, laboratory, and epidemiologic approaches in studies of individuals and families at high risk of cancer to identify and further characterize cancer susceptibility factor. Respondents are members of families in which multiple cancers are thought to have occurred. Information about the occurrence of cancer is collected and reviewed to determine eligibility for further etiologic study. Participation is entirely voluntary. The findings will lead to a better understanding of the causes and risk factors for selected cancers, which may reduce cancer incidence, and promote the earlier diagnosis of some cancers.

Frequency of Response: One time.

Affected Public: Individuals or households.

Type of Respondents: Adults.

The annual reporting burden is as follows:

Estimated Number of Respondents: 600 per year.

Estimated Number of Responses per Respondent: 1.

Average Burden Hours Per Response: 75.

Estimated Total Annual Burden Hours Requested: 450.

The annualized cost to respondents is estimated at: $4,500. There are no Capital Costs to report. There are no Operating or Maintenance Costs to report.

Request for Comments

Written comments and/or suggestions from the public and affected agencies are invited on one or more of the following points: (1) Whether the proposed collection of information is necessary for the proper performance of the function of the agency, including whether the information will have practical utility; (2) the accuracy of the agency's estimates of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on this project or to obtain a copy of the data collection plans and instrument, write to Dr. Margaret Tucker, Chief, Genetic Epidemiology Branch, National Cancer Institute, NIH, Executive Plaza South, Room 7122, 6120 Executive Blvd., Bethesda, MD 20892, or call non-toll-free number (301) 496-4375, or E-mail your request, including your address to: tuckerp@mail.nih.gov.

Comments Due Date

Comments regarding this information collection are best assured of having their full effect if received on or before 60 days from the date of this publication.

Dated: January 12, 2000.
Reesa Nichols,
OMB Project Clearance Liaison.

[FR Doc. 00-1422 Filed 1-20-00; 8:45 am]

BILLING CODE 4140-01-M